DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat constituting the entire survey record of the dependent resurvey of a portion of the west boundary and subdivisional lines, and the subdivision of sections 18 and 19, T. 13 N., R. 40 E., of the Boise Meridian, Idaho, Group Number 1327, was accepted December 9, 2011.

The plat representing the corrective resurvey of a portion of the Fifth Standard Parallel North (south boundary), the dependent resurvey of a portion of the subdivisional lines and the original 1891 right bank meanders of the Salmon River in section 20, the subdivision of section 20, the survey of a portion of the 2011 right bank meanders of the Salmon River in section 20, and a metes-and-bounds survey in section 20, T. 22 N., R. 22 E., of the Boise Meridian, Idaho, Group Number 1349, was accepted July 19, 2012.

The plat representing the dependent resurvey of a portion of the subdivisional lines and a portion of the subdivision of section 17, T. 2 N., R. 4 W., of the Boise Meridian, Idaho, Group Number 1342, was accepted July 20, 2012.

The plat representing the dependent resurvey of a portion of the subdivisional lines and the original 1904 right bank meanders of the Salmon River in section 23, and the subdivision of section 23, T. 25 N., R. 1 E., Boise Meridian, Idaho, Group Number 1344, was accepted August 17, 2012.

The plat representing the dependent resurvey of a portion of the subdivisional lines, and subdivision of section 8, T. 4 S., R. 39 E., of the Boise Meridian, Idaho, Group Number 1350, was accepted August 30, 2012.

These surveys were executed at the request of the Bureau of Indian Affairs to meet their administrative needs. The lands surveyed are:

The plat constituting the dependent resurvey of a portion of the Old East Boundary of the Fort Hall Indian Reservation, a portion of the First Standard Parallel South (south boundary), a portion of the New South Boundary of the Fort Hall Indian Reservation, a portion of the subdivisional lines, and the subdivision of certain sections, and the further subdivision of certain sections, the metes-and-bounds survey of portions of the Portneuf Reservoir 1910 Taking Line in sections 13, 14, and 24, and a survey of the 2009-2010 meanders of the full-pool line of the Portneuf Reservoir, in sections 13, 14, and 24, T. 6 S., R. 38 E., of the Boise Meridian, Idaho, Group Number 1305, was accepted July 12, 2012.

The plat representing the dependent resurvey of portions of the north and west boundaries and subdivisional lines, and the subdivision of section 6, T. 34 N., R. 2 W., Boise Meridian, Idaho, Group Number 1328, was accepted July 12, 2012.

The plat representing the dependent resurvey of portions of the north boundary and subdivisional lines, and the subdivision of section 1, T. 34 N., R. 3 W., Boise Meridian, Idaho, Group Number 1328, was accepted July 12, 2012.

The plat constituting the dependent resurvey of a portion of the New South Boundary of the Fort Hall Indian Reservation, a portion of the north boundary, a portion of the subdivisional lines, and the subdivision of sections 10 and 11, and the further subdivision of sections 10 and 11, a metes-and-bounds survey of portions of the Portneuf Reservoir 1908 Taking Line in sections 10 and 11, and a survey of the 2011 meanders of the Full-pool line of the Portneuf Reservoir in sections 10 and 11, T. 6 S., R. 38 E., of the Boise Meridian, Idaho, Group Number 1348, was accepted August 10, 2012.

The plat representing the corrective dependent resurvey of a portion of the south boundary, and the dependent resurvey of a portion of the subdivisional lines and the subdivision of section 6, and the metes-and-bounds survey of certain tracts that identify Indian Allotments established by the U.S. Indian Service during 1910-1915, in sections 6, 7, 8, 17, 18, 19, 20, 29, 30, 31, 32, and 33, T. 4 S., R. 36 E., and Indian Allotments in sections 1, 12, 13, 24, 25, and 36, T. 4 S., R. 35 E. and Indian Allotments in sections 4, 5, and 6, T. 5 S., R. 36 E., of the Boise Meridian, Idaho, Group Number 1316, was accepted September 28, 2012.

This survey was executed at the request of the Bureau of Reclamation to meet their administrative needs. The lands surveyed are:

The plat, in 11 sheets, representing the metes-and-bounds survey of a portion of the as-built centerline of the New York Canal in sections 20, 21, 26, 27, and 28, T. 3 N., R. 2 E., of the Boise Meridian, Idaho, Group Number 1369, was accepted September 25, 2012.

Dated: October 11, 2012.
Jeff A. Lee,
Acting Chief Cadastral Surveyor for Idaho.

[FR Doc. 2012-25776 Filed 10-18-12; 8:45 am]

BILLING CODE 4310-GG-P